DEPARTMENT OF TRANSPORTATION

Office of the Secretary

Aviation Proceedings, Agreements Filed the Week Ending May 12, 2012

The following Agreements were filed with the Department of Transportation under the Sections 412 and 414 of the Federal Aviation Act, as amended (49 U.S.C. 1382 and 1384) and procedures governing proceedings to enforce these provisions. Answers may be filed within 21 days after the filing of the application.

Docket Number: DOT-OST-2012-0070

Date Filed: May 9, 2012

Parties: Members of the International Air Transport Association

Subject: TC31—Mail Vote 711 Special Passenger Amending Resolution 010r from Myanmar to North, Central Pacific (Memo 0535) Intended Effective Date: 4 May 2012

Docket Number: DOT-OST-2012-0071

Date Filed: May 9, 2012

Parties: Members of the International Air Transport Association

Subject TC31—Mail Vote 709 TC123 Special Passenger Amending Resolution 010p Special Passenger Amending Resolution from Myanmar to TC123 (Memo 0486) Intended Effective Date: 4 May 2012

Docket Number: DOT-OST-2012-0072

Date Filed: May 9, 2012

Parties: Members of the International Air Transport Association

Subject: TC23—Mail Vote 710TC23 Special Passenger Amending Resolution 010q from Myanmar to TC23 Middle East/Africa (Memos 0462/0467) Intended Effective Date: 4 May 2012

Renee V. Wright,
Program Manager, Docket Operations, Federal Register Liaison.

[FR Doc. 2012-12754 Filed 5-24-12; 8:45 am]

BILLING CODE 4910-9X-P